CORPORATION FOR NATIONAL AND COMMUNITY SERVICE

Computer Matching and Privacy Protection Act of 1988; Report of Matching Program: Corporation for National and Community Service and the Social Security Administration

AGENCY: Corporation for National and Community Service.

ACTION: Notice of computer matching program between the Corporation for National and Community Service and the Social Security Administration.

SUMMARY: In accordance with the Privacy Act of 1974 (5 U.S.C. 552a), as amended by the Computer Matching and Privacy Protection Act of 1988 (Pub. L. 100-503), OMB Final Guidance Interpreting the Provisions of the Computer Matching and Privacy Protection Act of 1988 (54 FR 25818, June 19, 1989), and OMB Circular No. A-130, “Management of Federal Information Resources,” the Corporation for National and Community Service (“CNCS”) is issuing a public notice of the computer matching program with the Social Security Administration (“SSA”).

DATES: CNCS will file a report of the subject computer matching agreement with the Office of Management and Budget and Congress. The matching program will begin April 1, 2016 or 40 days after the date of CNCS's submissions to OMB and Congress, whichever is later. The matching program will continue for 18 months after the effective date and may be extended for an additional 12 months thereafter, if the conditions specified in 5 U.S.C. 552a(o)(2)(D) have been met.

ADDRESSES: You may submit comments identified by the title of the information collection activity, by any of the following methods.

(1) By mail sent to: Corporation for National and Community Service, Attention Zachary Jackson, Project Manager, Suite 300, 250 E. Street SW., Washington, DC, 20525.

(2) By fax to: (202) 606-3467.

(3) By email to: zjackson@cns.gov. Individuals who use a telecommunications device for the deaf (TTY-TDD) may call (202) 606-3472 between 8:30 a.m. and 5:00 p.m. Eastern Time, Monday through Friday.

FOR FURTHER INFORMATION CONTACT: Zachary Jackson, Project Manager, (202) 606-6948, or by email at zjackson@cns.gov.

SUPPLEMENTARY INFORMATION:

A. General

The Privacy Act of 1974 (5 U.S.C. 552a), as amended by the Computer Matching and Privacy Protection Act of 1988 (Pub. L. 100-503), regulates the use of computer matching agreements by Federal agencies when records in a system of records are matched with other Federal, state, or local government records. Among other things, it requires Federal agencies involved in computer matching agreements to publish a notice in the Federal Register regarding the establishment of the matching program.

B. Participating Agencies

Participants in this computer matching program are the Social Security Administration (source agency) and the Corporation for National and Community Service (recipient agency).

C. Purpose of the Match

The computer match between CNCS and SSA will enable CNCS to verify the social security numbers of individuals applying to serve in approved national service positions and those designated to receive national service education awards under the National and Community Service Act of 1990 (NCSA) and verify statements made by those individuals regarding their citizenship status.

D. Authority for Conducting the Matching Program

This agreement is executed in compliance with the Privacy Act of 1974, as amended by the Computer Matching and Privacy Protection Act of 1988 (5 U.S.C. 552a), and the regulations and guidance promulgated under the Act.

SSA's legal authority to enter into this agreement is section 1106 of the Social Security Act (42 U.S.C. 1306) and the regulations promulgated pursuant to that section (20 CFR part 401). The authority for SSA's disclosure of record information is 5 U.S.C. 552a(b)(3).

Section 146(a)(3) of the NCSA (42 U.S.C. 12602(a)) sets forth the eligibility requirements for an individual to receive an Education Award from the National Service Trust upon successful completion of a term of service in an approved national service position. Section 1711 of the Serve America Act (Pub. L. 111-13) directs CNCS to enter into a data matching agreement to verify statements made by an individual declaring that such individual is in compliance with section 146(a)(3) of the NCSA by comparing information provided by the individual with information relevant to such a declaration in the possession of another Federal agency. In accordance with the study CNCS completed pursuant to section 1711 of the Serve America Act, CNCS determined that a data matching program with SSA is the most effective means to verify an individual's statement that he or she is in compliance with section 146(a)(3) of the NCSA.

E. Categories of Records and Individuals Covered by the Matching Program

Each individual who is eligible to receive an education award or applies to serve in an approved national service position, including positions in AmeriCorps State and National, AmeriCorps VISTA, AmeriCorps NCCC, and Serve America Fellows, must, at the time of acceptance of an education award or application to serve, certify that the individual meets the citizenship eligibility criteria to serve in the position, i.e., is a citizen, national, or lawful permanent resident of the United States.

The Master Files of Social Security Number Holders and SSN Applications SSA/OTSO 60-0058, last published in full on December 29, 2010 (75 FR 82121), as amended on July 5, 2013 (78 FR 40542) and February 13, 2014 (79 FR 8780) maintains records about each individual who has applied for and obtained an SSN. SSA uses information from this system to assign SSNs. The information CNCS provides from the AmeriCorps Member Individual Account; Corporation -8 system of record, published in full on March 5, 1999 (64 FR 10879-10893), as amended on August 1, 2000, (65 FR 46890-46905) and July 25, 2002 (67 FR 48616-48617) will be matched against this system of records and verification results will be disclosed under the applicable routine use.

F. Inclusive Dates of the Matching Program

This agreement will be in effect for a period of 18 months, with a provision for a one-time extension for a period not to exceed 12 months. In order to renew this agreement, both CNCS and SSA must certify to their respective Data Integrity Boards that: (1) The matching program will be conducted without change; and (2) the matching program has been conducted in compliance with the original agreement.

G. Procedure

CNCS will provide SSA with a data file including each applicant's and potential education award recipient's social security number, first and last names, and date of birth. SSA will conduct a match on the identifying information. If the match does not return a result verifying the individual's citizenship status, CNCS will contact the individual or the grant recipient program that selected the individual to verify the results in accordance with the requirements of 5 U.S.C. 552a(p) and applicable OMB guidelines. The affected individual will have an opportunity to contest the accuracy of the information provided by SSA. The applicant will have at least 30 days from the date of the notice to provide clear and convincing evidence of the accuracy of the social security number, proof of U.S. citizenship, or both.

H. Additional Notice

Applicants will be informed at the time of application that information provided on the application is subject to verification through a computer matching program. The application package will contain a privacy certification notice that the applicant must sign authorizing CNCS to verify the information provided.

For transferees of education awards, at the time an award is transferred, CNCS will provided individual notice that the SSN is subject to verification through a computer matching program. CNCS will send a privacy notice to the transferee, and in the case of a minor, to the parent or legal guardian. The transferee, parent, or legal guardian must sign the privacy certification authorizing CNCS to verify the information provided.

I. Other Information

CNCS will furnish a copy of this notice to both Houses of Congress and the Office of Management and Budget.

Dated: February 10, 2016.
Thomas Hanley,
Chief Information Officer.

[FR Doc. 2016-03164 Filed 2-16-16; 8:45 am]

BILLING CODE 6050-28-P